DEPARTMENT OF TRANSPORTATION

Federal Transit Administration

Fiscal Year 2020 Competitive Funding Opportunity; Helping Obtain Prosperity for Everyone (HOPE)

AGENCY: Federal Transit Administration (FTA), DOT.

ACTION: Notice of Funding Opportunity (NOFO).

SUMMARY: The Federal Transit Administration (FTA) announces the opportunity to apply for approximately $8.5 million in fiscal year (FY) 2020 funds under the Helping Obtain Prosperity for Everyone (HOPE) Program (CFDA#20.505). Funds will be awarded competitively for planning, engineering, or development of technical or financing plans for projects eligible that assist areas of persistent poverty. FTA may award additional funds if they are made available to the program prior to the announcement of project selections.

DATES: Complete proposals must be submitted electronically through the GRANTS.GOV “APPLY” function by 11:59 p.m. Eastern Time on May 4, 2020. Prospective applicants should initiate the process by promptly registering on the GRANTS.GOV website to ensure completion of the application process before the submission deadline. Instructions for applying can be found on FTA's website at http://transit.dot.gov/howtoapply and in the “FIND” module of GRANTS.GOV.

The GRANTS.GOV funding opportunity ID is FTA-2020-011-TPE-HOPE. Mail and fax submissions will not be accepted.

FOR FURTHER INFORMATION CONTACT: Charles Goodman, FTA Office of Planning and Environment, 202-366-1944, or Charles.goodman@dot.gov.

SUPPLEMENTARY INFORMATION:

Table of Contents

A. Program Description

B. Federal Award Information

C. Eligibility Information

D. Application and Submission Information

E. Application Review Information

F. Review and Selection Process Information

G. Federal Award Administration Information

H. Technical Assistance and Other Program Information

I. Federal Awarding Agency Contacts

A. Program Description

The HOPE Program provides funds to eligible entities defined as eligible recipients or subrecipients under 49 U.S.C. 5307, 49 U.S.C. 5310 or 49 U.S.C. 5311 and are in areas of persistent poverty. Funds were appropriated pursuant to Division H of the Further Consolidated Appropriations Act, 2020 (Pub. L. 116-94) and will be awarded through a competitive process, as described in this notice. FTA will award grants to eligible applicants for planning, engineering, or development of technical, or financing plans for projects eligible under Chapter 53 of Title 49 U.S.C. Applicants are encouraged to work with non-profits or other entities of their choosing to develop an eligible project. An eligible project for this Notice of Funding Opportunity is defined as either a planning study, including a planning and environmental linkages study that advances the environmental analysis and review process as part of the metropolitan planning process, engineering study, technical study, or financial plan.

FTA encourages applicants to propose projects that may introduce innovative technologies or practices in support of FTA's Accelerating Innovative Mobility (AIM) initiative. FTA is focused on the introduction of new technology not commonly found within U.S. transit systems such as integrated fare payment systems that permit complete trips or advancements to propulsion systems. Resulting innovation activities may also include practices such as new public transportation operational models, financial or procurement arrangements, or value capture.

Rural transportation networks play a vital role in supporting our national economic vitality. Addressing the deteriorating conditions and disproportionately high fatality rates on our rural transportation infrastructure is of critical interest to the Department, as rural transportation networks face unique challenges in safety, infrastructure condition, and passenger and freight usage. Consistent with the R.O.U.T.E.S. Initiative (https://www.transportation.gov/rural), FTA encourages applicants to consider how the project will address the challenges faced by rural areas of persistent poverty.

B. Federal Award Information

The Further Consolidated Appropriations Act, 2020 appropriated $8.5 million for the HOPE Program. The FTA is announcing the availability of these funds through this notice.

The FTA will grant pre-award authority to incur costs for selected projects beginning on the date that project selections are announced. Funds are only available for projects that have not incurred costs prior to the selection of projects. Funds will remain available for obligation for three Federal fiscal years, not including the year in which the funds are allocated to projects. FTA anticipates the maximum grant awards will not exceed $850,000.

C. Eligibility Information

1. Eligible Applicants

Eligible applicants for awards are States, tribes, and designated or direct recipients under 49 U.S.C. 5307, 49 U.S.C. 5310 or 49 U.S.C. 5311. Eligible sub-recipients include all otherwise eligible applicants.

State departments of transportation may apply on behalf of eligible applicants within their States. Applicants are encouraged to work with nonprofit organizations engaged in public transportation in areas of persistent poverty.

To be considered eligible, proposed projects must be in a county with 20 percent or more of the population living in poverty over the 30 years preceding the date of enactment of the Further Consolidated Appropriations Act, 2020 (December 20, 2019), as measured by the 1990 and 2000 decennial census and the most recent Small Area Income and Poverty Estimates, or from any census tract with a poverty rate of at least 20 percent as measured by the 2013-2017, 5-year data series available from the American Community Survey of the Census Bureau. The FTA has posted a table and maps of the Areas of Persistent Poverty that meet these criteria at www.transit.dot.gov. Eligible applicants must be able to demonstrate the requisite legal, financial, and technical capabilities to receive and administer Federal funds under this program.

As permitted by the Further Consolidated Appropriations Act, 2020, applicants to the HOPE Program may submit applications that include partnerships with non-profits that can assist with making projects low or no emissions. If an application that involves such a partnership is selected for funding, the competitive selection process will be deemed to satisfy the requirement for a competitive procurement under 49 U.S.C. 5325(a) for the named entities. Applicants are advised that any changes to the proposed partnership will require written FTA approval, must be consistent with the scope of the approved project, and may necessitate a competitive procurement.

2. Cost Sharing or Matching

The minimum federal share for projects selected under the HOPE Program is not less than 90 percent of the total project cost (i.e., the local share will be no more than 10 percent of the total project cost, not 10 percent of the requested grant amount).

Eligible sources of local match include the following: Cash from non-Government sources other than revenues from providing public transportation services; revenues derived from the sale of advertising and concessions; amounts received under a service agreement with a State or local social service agency or private social service organization; revenues generated from value capture financing mechanisms; or funds from an undistributed cash surplus; replacement or depreciation cash fund or reserve; or new capital. In addition, transportation development credits or documentation of in-kind match may substitute for local match if identified in the application.

3. Eligible Projects

Under the HOPE Program, eligible projects are planning, engineering, or development of technical, or financing plans for projects eligible under Chapter 53 of title 49 U.S.C. For example, these activities may include planning, engineering, or development of technical, or financing plans for improved transit services, new transit routes, engineering for transit facilities and improvements to existing facilities, innovative technologies, low or no emission buses, or a new bus facility or intermodal center that supports transit services, integrated fare collections systems, or coordinated public transit human service transportation plans to improve transit service in an area of persistent poverty or to provide new service such as transportation for services to address the opioid epidemic. An eligible project also may be a planning and environmental linkages study that advances the environmental analysis and review process as part of the metropolitan planning process.

D. Application and Submission Information

1. Address

Applications must be submitted electronically through GRANTS.GOV. General information for submitting applications through GRANTS.GOV can be found at https://www.transit.dot.gov/funding/grants/applying/applying-fta-funding along with specific instructions for the forms and attachments required for submission. Mail and fax submissions will not be accepted. A complete proposal submission consists of two forms: The SF-424 Application for Federal Assistance (downloaded from GRANTS.GOV) and the supplemental form for the FY 2020 HOPE Program (downloaded from GRANTS.GOV or the FTA website at www.transit.dot.gov). Applicants also may attach additional supporting information. Failure to submit the information as required can delay or prevent review of the application.

2. Content and Form of Application Submission

A strong transportation network is critical to the functioning and growth of the American economy. The nation's industry depends on the transportation network to move the goods that it produces, and facilitate the movements of the workers who are responsible for that production. When the nation's transit systems, highways, railways, and ports function well, that infrastructure connects people to jobs, increases the efficiency of delivering goods and thereby cuts the costs of doing business, reduces the burden of commuting, and improves overall well-being.

A complete proposal submission consists of two forms: The SF-424 Application for Federal Assistance and the FY 2020 HOPE Program supplemental form. The supplemental form and any supporting documents must be attached to the “Attachments” section of the SF-424. A complete application must include responses to all sections of the SF-424 Application for Federal Assistance and the supplemental form, unless indicated as optional. The information on the supplemental form will be used to determine applicant and project eligibility for the program, and to evaluate the proposal against the selection criteria described in part E of this notice.

The FTA will accept only one supplemental form per SF-424 submission. FTA encourages States and other applicants to consider submitting a single supplemental form that includes multiple activities to be evaluated as a consolidated proposal. If a State or other applicant chooses to submit separate proposals for individual consideration by FTA, each proposal must be submitted using a separate SF-424 and supplemental form.

Applicants may attach additional supporting information to the SF-424 submission, including but not limited to letters of support, project budgets, fleet status reports or excerpts from relevant planning documents. Supporting documentation must be described and referenced by file name in the appropriate response section of the supplemental form, or it may not be reviewed.

Information such as applicant name, Federal amount requested, local match amount, description of areas served, etc. may be requested in varying degrees of detail on both the SF-424 and Supplemental Form. Applicants must fill in all fields unless stated otherwise on the forms. Applicants should not place N/A or “refer to attachment” in lieu of typing in responses in the field sections. If information is copied into the supplemental form from another source, applicants should verify that pasted text is fully captured on the supplemental form and has not been truncated by the character limits built into the form. Applicants should use both the “Check Package for Errors” and the “Validate Form” validation buttons on both forms to check all required fields on the forms, and ensure that the federal and local amounts specified are consistent.

The SF-424 Mandatory Form and the Supplemental Form will prompt applicants for the required information, including:

a. Applicant name.

b. Dun and Bradstreet (D&B) Data Universal Numbering System (DUNS) number.

c. Key contact information (including contact name, address, email address, and phone).

d. Congressional district(s) where project will take place.

e. Project information (including title, an executive summary, and type).

f. A detailed description of the need for the planning, engineering, or development of technical, or financial planning activities.

g. A detailed description of how the project will support the HOPE Program objectives.

h. Provide a line-item budget for the project, with enough detail to indicate the various key components of the comprehensive planning project.

i. Identify the Federal amount requested.

j. Document the matching funds, including amount and source of the match (may include local or private sector financial participation in the project). Describe whether the matching funds are committed or planned, and include documentation of the commitments.

k. A description of the technical, legal and financial capacity of the applicant.

l. An explanation of the scalability of the project.

m. Identify whether the project would be in a qualified opportunity zone designated pursuant to 26 U.S.C. 1400Z-1.

n. Provide a schedule and process for the project that includes anticipated dates for incorporating the project into the region's unified planning work program, completing major tasks and substantial deliverables, and completing the project.

o. Describe how the proposed project advances the metropolitan transportation plan of the metropolitan planning organization or the statewide long range plan by the State department of transportation.

p. Propose performance criteria for the development and implementation of the HOPE planning activities.

q. Identify potential State, local or other impediments to the products of the HOPE work and its implementation, and how the work will address them.

r. Identify proposed actions that reduce regulatory barriers that unnecessarily raise the costs of housing development or impede the development of affordable housing.

The FTA will not consider any additional materials submitted by applicants in its evaluation of proposals. The total length of the completed supplemental form and documentation of partnerships and funding commitments should be no more than 15 pages.

3. Unique Entity Identifier and System for Award Management (SAM)

Each applicant is required to: (1) Be registered in SAM before submitting an application; (2) provide a valid unique entity identifier in its application; and (3) continue to maintain an active SAM registration with current information at all times during which the applicant has an active Federal award or an application or plan under consideration by FTA. These requirements do not apply if the applicant has an exemption approved by FTA under Federal grants and agreements law (2 CFR 25.110(d)). The FTA may not make an award until the applicant has complied with all applicable unique entity identifier and SAM requirements. If an applicant has not fully complied with the requirements by the time FTA is ready to make an award, FTA may determine that the applicant is not qualified to receive an award and use that determination as a basis for making a Federal award to another applicant. All applicants must provide a unique entity identifier provided by SAM. SAM registration takes approximately 3-5 business days, but FTA recommends allowing ample time, up to several weeks, for completion of all steps. For additional information on obtaining a unique entity identifier, please visit www.sam.gov.

4. Submission Dates and Times

Project proposals must be submitted electronically through http://www.GRANTS.GOV by 11:59 p.m. May 4, 2020. GRANTS.GOV attaches a time stamp to each application at the time of submission. Proposals submitted after the deadline will only be considered under extraordinary circumstances not under the applicant's control. Mail and fax submissions will not be accepted.

Within 48 hours after submitting an electronic application, the applicant should receive two email messages from GRANTS.GOV: (1) Confirmation of successful transmission to GRANTS.GOV; and (2) confirmation of successful validation by GRANTS.GOV. FTA will then validate the application and will attempt to notify any applicants whose applications could not be validated. If the applicant does not receive confirmation of successful validation or a notice of failed validation or incomplete materials, the applicant must address the reason for the failed validation, as described in the email notice, and resubmit before the submission deadline. If making a resubmission for any reason, include all original attachments regardless of which attachments were updated and check the box on the supplemental form indicating this is a resubmission. An application that is submitted at the deadline and cannot be validated will be marked as incomplete, and such applicants will not receive additional time to re-submit.

Any addenda that FTA releases on the application process will be posted at https://www.transit.dot.gov. Important: FTA urges applicants to submit their applications at least 96 hours prior to the due date to allow time to receive the validation messages and to correct any problems that may have caused a rejection notification. GRANTS.GOV scheduled maintenance and outage times are announced on the GRANTS.GOV website at http://www.GRANTS.GOV. Deadlines will not be extended due to scheduled maintenance or outages.

Applicants are encouraged to begin the registration process on the GRANTS.GOV site well in advance of the submission deadline. Registration is a multi-step process, which may take several weeks to complete before an application can be submitted. Registered applicants may still be required to take steps to keep their registration up to date before submissions can be made successfully: (1) Registration in the System for Award Management (SAM) is renewed annually and (2) persons making submissions on behalf of the Authorized Organization Representative (AOR) must be authorized in GRANTS.GOV by the AOR to make submissions. Instructions on the GRANTS.GOV registration process are listed in Appendix A.

5. Funding Restrictions

Funds under this NOFO cannot be used to reimburse applicants for otherwise eligible expenses incurred prior to FTA award of a grant agreement until FTA has issued pre-award authority for selected projects.

6. Other Submission Requirements

Applicants are encouraged to identify scaled funding options in case insufficient funding is available to fund a project at the full requested amount. If an applicant indicates that a project is scalable, the applicant must provide an appropriate minimum funding amount that will fund an eligible project that achieves the objectives of the program and meets all relevant program requirements. The applicant must provide a clear explanation of how the project budget would be affected by a reduced award. The FTA may award a lesser amount whether a scalable option is provided.

E. Application Review Information

1. Criteria

The FTA will evaluate project proposals for the HOPE Program based on the criteria described in this notice. Projects will be evaluated primarily on the responses provided in the supplemental form. Additional information may be provided to support the responses; however, any additional documentation must be directly referenced on the supplemental form, including the file name where the additional information can be found.

Consistent with the Department's R.O.U.T.E.S. Initiative (https://www.transportation.gov/rural), the Department recognizes that rural transportation networks face unique challenges. To the extent that those challenges are reflected in the merit criteria listed in this section, FTA will consider how the activities proposed in the application will address those challenges, regardless of the geographic location of those activities.

a. Demonstration of Need

Applications will be evaluated based on the quality and extent to which they demonstrate how the proposed activities will support planning, engineering, or development of technical, or financing plans that would result in a project eligible for funding under Chapter 53 of Title 49 U.S.C.

b. Demonstration of Benefits

Applications will be evaluated based on how well they describe how the proposed planning, engineering, or development of technical, or financing plans that address the existing condition of the transit system, improve the reliability of transit service for its riders, enhance access and mobility within the service area, or accelerate innovation in areas of persistent poverty.

System Condition: The FTA will evaluate the potential for the planning, engineering, or development of technical, or financing plans to lead to an improvement in the condition of the transit system in areas of persistent poverty.

Service Reliability: The FTA will evaluate the potential for the planning, engineering, or development of technical, or financing plans to lead to a reduction in the frequency of breakdowns or other service interruptions caused by the age and condition of the agency's bus fleet, and improve system reliability.

Enhanced Access and Mobility: The FTA will evaluate the potential for the planning, engineering, or development of technical, or financing plans to lead to improved access and mobility for the transit riding public, such as through increased reliability, improved headways, creation of new transportation choices or eliminating gaps in the current route network.

Accelerating Innovation: The FTA will evaluate the potential for the planning, engineering, or development of technical, or financing plans to accelerate the introduction of innovative technologies or practices such as integrated fare payment systems permitting complete trips or advancements to propulsion systems. Innovation can also include practices such as new public transportation operational models, financial or procurement arrangements, or value capture strategies.

Emissions Reductions: The FTA will evaluate the potential for the planning study, engineering study, or development of technical, or financing plans with a project partner to lead to reduced vehicle emissions as a potential outcome.

Barriers to Low Income Housing: FTA will evaluate the degree to which the planning study, engineering study, or technical or financial plans identify proposed actions that reduce regulatory barriers that unnecessarily raise the costs of housing development or impede the development of affordable housing.

Regional Support: Applicants should provide evidence of regional or local support for the proposed project. Documentation may include support letters from local and regional planning organizations, local governmental officials, public agencies and/or non-profit or private sector partners attesting to the need for the project.

Improving Rural Transportation: Consistent with the Department's R.O.U.T.E.S. Initiative (https://www.transportation.gov/rural), the Department recognizes that rural transportation networks face unique challenges. To the extent that those challenges are reflected in the merit criteria listed in this section, FTA will consider how the activities proposed in the application will address those challenges, regardless of the geographic location of those activities.

c. Local Financial Commitment

Applicants must identify the source of the local cost share and describe whether such funds are currently available for the project or will need to be secured if the project is selected for funding. The FTA will consider the availability of the local cost share as evidence of local financial commitment to the project. Additional consideration will be given to those projects for which local funds have already been made available or reserved. Applicants should submit evidence of the availability of funds for the project, for example by including a board resolution, letter of support from the State or other documentation of the source of local funds such as a budget document highlighting the line item or section committing funds to the proposed project.

d. Project Implementation Strategy

The FTA will evaluate the strength of the work plan, schedule and process included in an application based on the following factors:

a. Extent to which the schedule contains sufficient detail, identifies all steps needed to implement the work proposed, and is achievable;

b. Extent of partnerships, including with non-public sector entities; and

c. The partnerships' technical capability to develop, adopt and implement the plans, based on FTA's assessment of the applicant's description of the policy formation, implementation, and financial roles of the partners, and the roles and responsibilities of proposed staff.

e. Technical, Legal and Financial Capacity

Applicants must demonstrate that they have the technical, legal and financial capacity to undertake the project. FTA will review relevant oversight assessments and records to determine whether there are any outstanding legal, technical or financial issues with the applicant that would affect the outcome of the proposed project. Applicants with outstanding legal, technical or financial compliance issues from an FTA compliance review or Federal Transit grant-related Single Audit finding must explain how corrective actions taken will mitigate negative impacts on the proposed project.

2. Review and Selection Process

In addition to other FTA staff that may review the proposals, a technical evaluation committee will evaluate proposals based on the published evaluation criteria. After applying the above criteria, the FTA Administrator will consider the following key Departmental objectives:

(A) Supporting economic vitality at the national and regional level;

(B) Utilizing alternative funding sources and innovative financing models to attract non-Federal sources of infrastructure investment;

(C) Identifying proposed actions that reduce regulatory barriers that unnecessarily raise the costs of housing development or impede the development of affordable housing;

(D) Undertake planning, engineering, technical studies, or financing plans for transit facilities or services in a qualified opportunity zone designated pursuant to 26 U.S.C. 1400Z-1

(E) Using innovative approaches to improve safety and expedite project delivery; and

(F) Holding grant recipients accountable for their performance and achieving specific, measurable outcomes identified by grant applicants.

Prior to making an award, FTA is required to review and consider any information about the applicant that is in the Federal Awardee Performance and Integrity Information Systems (FAPIIS) accessible through SAM. An applicant may review and comment on information about itself that a Federal awarding agency previously entered. FTA will consider any comments by the applicant, in addition to the other information in the designated integrity and performance system, in making a judgment about the applicant's integrity, business ethics, and record of performance under Federal awards when completing the review of risk posed by applicants as described in § 200.205 Federal awarding agency review of risk posed by applicants.

The FTA Administrator will determine the final selection of projects for program funding. In determining the allocation of program funds, FTA may consider geographic diversity, diversity in the size of the transit systems receiving funding, the applicant's receipt of other competitive awards, projects located in or that support public transportation service in a qualified opportunity zone designated pursuant to 26 U.S.C. 1400Z-1, the percentage of local share provided, and whether the project includes an innovative technology or practice.

F. Federal Award Administration Information

1. Federal Award Notice

Final project selections will be posted on the FTA website. Selected recipients should contact their FTA regional offices for additional information regarding allocations for projects under the HOPE Program.

At the time the project selections are announced, FTA will extend pre-award authority for the selected projects. There is no blanket pre-award authority for these projects before announcement.

2. Award Administration

The FTA anticipates that the maximum grant award will not exceed $850,000 which will enable FTA to fund as many meritorious projects as possible. Only proposals from eligible recipients for eligible activities will be considered for funding. Due to funding limitations, proposals that are selected for funding may receive less than the amount originally requested. In those cases, applicants must be able to demonstrate that the proposed projects are still viable stand-alone projects that can be completed with the amount awarded.

3. Administrative Requirements

a. Pre-Award Authority

The FTA will issue specific guidance to recipients regarding pre-award authority at the time of selection. The FTA does not provide pre-award authority for competitive funds until projects are selected and even then, there are Federal requirements that must be met before costs are incurred. For more information about FTA's policy on pre-award authority, please see the FY 2019 Apportionment Notice published on July 3, 2019 which can be accessed at https://www.govinfo.gov/content/pkg/FR-2019-07-03/pdf/2019-14248.pdf.

b. Grant Requirements

If selected, awardees will apply for a grant through FTA's Transit Award Management System (TrAMS). Recipients of HOPE Program funding in urban areas are subject to the grant requirements of the Urbanized Area Formula Grant program (49 U.S.C. 5307), including those described in FTA Circular “Urbanized Area Formula Program: Program Guidance and Application Instructions” (FTA.C.9030.1E). Recipients of funding in rural areas are subject to the grant requirements described in the Formula Grants for Rural Areas Program (49 U.S.C. 5311), including those described in FTA Circular “Formula Grants for Rural Areas: Program Guidance and Application Instructions” (FTA.C.9040.1G). All recipients (urban and rural) must follow the Award Management Requirements as described in (FTA.C.5010.1E). Technical assistance regarding these requirements is available from each FTA regional office.

c. Disadvantaged Business Enterprise

The FTA requires that its recipients receiving planning, capital and/or operating assistance that will award prime contracts exceeding $250,000 in FTA funds comply with the Disadvantaged Business Enterprise (DBE) program regulations (49 CFR part 26).

For more information on DBE requirements, please contact Scheryl Portee, the Office of the Chief Counsel, at 202-366-0840, email: scheryl.portee@dot.gov.

d. Standard Assurances

By submitting a grant application, the applicant assures that it will comply with all applicable federal statutes, regulations, executive orders, directives, FTA circulars and other federal administrative requirements in carrying out any project supported by the FTA grant. Further, the applicant acknowledges that it is under a continuing obligation to comply with the terms and conditions of the grant agreement issued for its project with FTA. The applicant understands that Federal laws, regulations, policies and administrative practices might be modified from time to time and may affect the implementation of the project. The applicant agrees that the most recent Federal requirements will apply to the project, unless FTA issues a written determination otherwise. The applicant must submit the Certifications and Assurances before receiving a grant, if it does not have current certifications on file.

4. Reporting

Post-award reporting requirements include the electronic submission of Federal Financial Reports and Milestone Progress Reports in FTA's electronic grants management system. Recipients of funds made available through this NOFO are also required to regularly submit data to the National Transit Database.

G. Federal Awarding Agency Contacts

For further information concerning this notice, please contact Mr. Charles Goodman via email at Charles.goodman@dot.gov; or by phone at 202-366-1944. A TDD is available for individuals who are deaf or hard of hearing at 800-877-8339. In addition, FTA will post answers to questions and requests for clarifications on FTA's website at http://transit.dot.gov. The FTA staff will also conduct a webinar for potential applicants to learn more about the program and submittal process

To ensure the receipt of accurate information about eligibility or the program, applicants with questions are encouraged to contact FTA directly, rather than through intermediaries or third parties.

H. Technical Assistance and Other Program Information

This program is not subject to Executive Order 12372, “Intergovernmental Review of Federal Programs.” The FTA will consider applications for funding only from eligible recipients for eligible projects listed in Section C. Complete applications must be submitted through GRANTS.GOV by 11:59 p.m. Eastern time on May 4, 2020. For assistance with GRANTS.GOV please contact GRANTS.GOV by phone at 1-800-518-4726 or by email at support@grants.gov. Contact information for FTA's regional offices can be found on FTA's website at https://www.transit.dot.gov/about/regional-offices/regional-offices.

K. Jane Williams,
Acting Administrator.

[FR Doc. 2020-04250 Filed 3-2-20; 8:45 am]

BILLING CODE P